DEPARTMENT OF AGRICULTURE

Animal and Plant Health Inspection Service

[Docket No. APHIS-2017-0069]

International Trade Data System: Timeline for Enforcing APHIS Core Message Set Flags in the Automated Commercial Environment

AGENCY: Animal and Plant Health Inspection Service, USDA.

ACTION: Notice and request for comments.

SUMMARY: The Animal and Plant Health Inspection Service (APHIS) is announcing full implementation of the APHIS Core Message Set in the Automated Commercial Environment/International Trade Data System (ACE/ITDS) for the electronic submission of data required by APHIS Animal Care, Biotechnology Regulatory Services, Plant Protection and Quarantine, and Veterinary Services. APHIS intends to begin applying Harmonized Tariff Schedule flags, which will alert filers who opted to submit electronically using ACE. Full implementation of the message set will bring APHIS into compliance with the mandates of the Security and Accountability For Every Port Act of 2006 and Executive Order 13659. The information collected will enhance APHIS' ability to make data-driven policy decisions, improve risk analysis/assessments, and enhance ability to respond to changing pest/disease conditions.

DATES: We will consider all comments that we receive on or before March 4, 2020.

ADDRESSES: You may submit comments by either of the following methods:

• Federal eRulemaking Portal: Go to http://www.regulations.gov/#!docketDetail;D=APHIS-2017-0069.

• Postal Mail/Commercial Delivery: Send your comment to Docket No. APHIS-2017-0069, Regulatory Analysis and Development, PPD, APHIS, Station 3A-03.8, 4700 River Road Unit 118, Riverdale, MD 20737-1238.

Supporting documents and any comments we receive on this docket may be viewed at http://www.regulations.gov/#!docketDetail;D=APHIS-2017-0069 or in our reading room, which is located in room 1141 of the USDA South Building, 14th Street and Independence Avenue SW, Washington, DC. Normal reading room hours are 8 a.m. to 4:30 p.m. Monday through Friday, except holidays. To be sure someone is there to help you, please call (202) 799-7039 before coming.

FOR FURTHER INFORMATION CONTACT: Mr. Richard Leshin, APHIS Liaison for Automated Commercial Environment, International Trade Data System, Management and Program Analyst, Quarantine Policy, Analysis and Support, PPQ, APHIS, 4700 River Road Unit 60, Riverdale, MD 20737; (301) 851-2085; Richard.Leshin@usda.gov.

SUPPLEMENTARY INFORMATION:

Background

The National Customs Automation Program (NCAP) was established in Subtitle B of Title VI—Customs Modernization, in the North American Free Trade Agreement Implementation Act (Pub. L. 103-182, 107 Stat. 2057, 2170, December 8, 1993; see 19 U.S.C. 1411). Through NCAP, the initial thrust of customs modernization was on trade compliance and the development of the Automated Commercial Environment (ACE), the planned successor to the Automated Commercial System (ACS). ACE is an automated and electronic system for commercial trade processing intended to streamline business processes, facilitate growth in trade, ensure cargo security, and foster participation in global commerce, while ensuring compliance with U.S. laws and regulations and reducing costs for U.S. Customs and Border Protection (CBP) and all of its communities of interest. The ability to meet these objectives depends on successfully modernizing CBP's business functions and the information technology that supports those functions.

The International Trade Data System (ITDS) is authorized by section 405 of the Security and Accountability For Every Port Act of 2006 (SAFE Port Act, Pub. L. 109-347). The purpose of ITDS, as defined by section 405 of the SAFE Port Act, is to eliminate redundant information filing requirements, efficiently regulate the flow of commerce, and effectively enforce laws and regulations relating to international trade, by establishing a single portal system, operated by CBP, for the collection and distribution of standard electronic import and export data required by all participating Federal agencies.

From March 1, 2016, through August 15, 2016, the Animal and Plant Health Inspection Service (APHIS) conducted pilots of ACE/ITDS using the message set data for Animal Care, Biotechnology Regulatory Services, Plant Protection and Quarantine, and Veterinary Services (known collectively as APHIS Core).¹ The pilots were available for any stakeholder interested in participating. During the pilot phase, APHIS conducted an analysis and provided feedback on each initial filing. APHIS continues to provide an analysis of the data submissions for stakeholders who request feedback.

¹ To view the notices announcing the beginning and end of the pilots, go to http://www.regulations.gov/#!docketDetail;D=APHIS-2015-0063.

APHIS intends to fully implement this change on August 3, 2020. On that date, APHIS intends to begin applying Harmonized Tariff Schedule (HTS) flags, which will alert filers who opt to submit data electronically whether APHIS import data is or may be required. Importers or brokers using ACE must enter APHIS-required import data when they receive an APHIS-specific HTS flag in order to complete their entry in the system.

We invite public comment on the timeline for full implementation of the APHIS Core Message Set in ACE/ITDS. After the close of the comment period we will publish another notice in the Federal Register confirming the date when APHIS will begin applying HTS flags.

Importers and brokers are required to submit APHIS-required information at the first U.S. port of arrival and are responsible for knowing what to file, regardless of whether a tariff code is flagged in ACE. The APHIS Core Message Set does not allow for de minimis exceptions. Importers and brokers must submit required data for APHIS-regulated products regardless of the size or value of the shipment. Any exceptions to filing APHIS Core data in ACE will be noted on the APHIS ACE website at http://www.aphis.usda.gov/ace.

To view APHIS Core Message Set guidance, visit the APHIS ACE website at http://www.aphis.usda.gov/ace/. The latest APHIS Core Message Set implementation guide can be viewed on the CBP website at https://www.cbp.gov/document/guidance/aphis-pga-message-set-adapted-data-element-record-layout. A complete list of documents and approved submission options is available on the CBP website at http://www.cbp.gov/document/guidance/ace-november-1-pga-forms.

For questions about the APHIS Core Message Set, please email ace.itds@usda.gov. For questions related to APHIS' import requirements, please visit APHIS' import/export website at https://www.aphis.usda.gov/aphis/ourfocus/importexport or call APHIS' Customer Service Center at (844) 820-2234.

Done in Washington, DC, this 28th day of January 2020.
Kevin Shea,
Administrator, Animal and Plant Health Inspection Service.

[FR Doc. 2020-01984 Filed 1-31-20; 8:45 am]

BILLING CODE 3410-34-P